DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before November 30, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on November 3, 2023.
Donald P. Burger,
Chief, General Approvals and Permits Branch.

Special Permits Data
Application number | Applicant | Regulation(s) affected | Nature of the special permits thereof
14201-M | National Air Cargo Group, Inc | 172.204(c)(3), 172.101(j)(1), 173.27(b)(2), 173.27(b)(3), 175.30(a)(1) | To modify the special permit to authorize more than 2,000 pounds new explosives to be transported aboard the aircraft and to authorize UN1005, UN3543, and UN3549 to be transported. (mode 4).
20677-M | Department of Defense (Military Surface Deployment & Distribution Command) | 173.302(a)(1) | To modify the special permit to authorize additional packagings. (modes 1, 2, 3, 4).
20936-M | Co2 Exchange LLC | 171.2(k), 172.200, 172.300, 172.700(a), 172.400, 172.500 | To modify the special permit to authorize a different marking and hazard communication information on a package and different reoffering provisions in paragraph 8.b. (modes 1, 2).
21193-M | KULR Technology Corporation | 172.200, 172.300, 172.700(a), 172.400, 172.500, 172.600, 173.185(f) | To modify the special permit to authorize the transportation of end of life lithium ion cells and batteries and lithium metal cells and batteries and to authorize alternative packaging. (modes 1, 2).
21403-M | Northrop Grumman Systems Corporation | 173.185(a)(1), 173.185(a)(2) | To modify the special permit to remove paragraphs 7.b.(2) and (4). (modes 1, 4).
21490-M | Myers Industries, Inc | 173.28(b)(2), 178.509(b)(7), 178.601(h) | To modify the special permit to authorize testing variations 3 and 5 under 49 CFR 178.601(g)(3) and (5). (modes 1, 2).
21539-M | Rivian Automotive, LLC | 172.301(c), 173.185(c)(1)(iii) | To modify the special permit to authorize party status to entities under contract with the grantee. (mode 1).

[FR Doc. 2023-25169 Filed 11-14-23; 8:45 am]

BILLING CODE P